DEPARTMENT OF ENERGY

10 CFR Part 431

[Docket No. EERE-2013-BT-STD-0007]

RIN 1904-AC95

Energy Efficiency Program for Commercial and Industrial Equipment: Energy Conservation Standards for Small, Large, and Very Large Air-Cooled Commercial Package Air Conditioning and Heating Equipment

AGENCY: Office of Energy Efficiency and Renewable Energy, Department of Energy.

ACTION: Reopening of public comment period.

SUMMARY: On September 30, 2014, the U.S. Department of Energy (DOE) published a notice of proposed rulemaking for small, large, and very large air-cooled commercial package air conditioning and heating equipment in the Federal Register. This document announces the reopening of the public comment period for submitting comments and data on the proposed rulemaking, associated technical support document (TSD), or any other aspect of the rulemaking for small, large, and very large air-cooled commercial package air conditioning and heating equipment. The reopened comment period ends December 22, 2014.

DATES: The comment period for the proposed rule published on September 30, 2014 (79 FR 58947), is reopened. DOE will accept comments, data, and information regarding this rulemaking received no later than December 22, 2014.

ADDRESSES: Interested persons may submit comments, identified by docket number EERE-2013-BT-STD-0007 and/or Regulation Identification Number (RIN) 1904-AC95, by any of the following methods:

• Federal eRulemaking Portal: www.regulations.gov. Follow the instructions for submitting comments.

• Email: CommPkgACHP2013STD0007@ee.doe.gov. Include the docket number EERE-2013-BT-STD-0007 and/or RIN 1904-AC95 in the subject line of the message.

• Mail: Ms. Brenda Edwards, U.S. Department of Energy, Building Technologies Program, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: http://www1.eere.energy.gov/buildings/appliance_standards/rulemaking.aspx?ruleid=59. This Web page contains a link to the docket for this notice on the regulation.gov site. The www.regulations.gov Web page contains instructions on how to access all documents in the docket, including public comments.

FOR FURTHER INFORMATION CONTACT: Ms. Ashley Armstrong, U.S. Department of Energy, Office of Energy Efficiency and Renewable Energy, Building Technologies, EE-5B, 1000 Independence Avenue SW., Washington, DC 20585-0121. Telephone: (202) 586-6590. Email: commercial_package_ac_heating_equipment@ee.doe.gov.

In the Office of the General Counsel, contact Mr. Michael Kido, U.S. Department of Energy, Office of the General Counsel, GC-33, 1000 Independence Avenue SW., Washington, DC 20585-0121. Telephone: (202) 586-9507. Email: Michael.Kido@hq.doe.gov.

SUPPLEMENTARY INFORMATION: On September 30, 2014, the U.S. Department of Energy (DOE) published a notice of proposed rulemaking and the announcement of a public meeting in the Federal Register to make available and invite comments on its proposed rulemaking regarding energy conservation standards for small, large, and very large air-cooled commercial package air conditioning and heating equipment. 79 FR 58947 (Sept. 30, 2014). The notice provided for the written submission of comments by December 1, 2014, and oral comments were also accepted at a public meeting held on November 6, 2014. Various stakeholders have requested an extension of the comment period to consider the proposed standards, the associated technical support document and analytical tools, the public meeting presentation, and to prepare and submit comments and data accordingly.

DOE has determined that reopening of the public comment period is appropriate based on the foregoing reason. DOE will consider any comments received by midnight of December 22, 2014, and deems any comments received by that time to be timely submitted.

Issued in Washington, DC, on November 25, 2014.
Reuben Sarkar,
Deputy Assistant Secretary for Transportation, Energy Efficiency and Renewable Energy.

[FR Doc. 2014-28451 Filed 12-2-14; 8:45 am]

BILLING CODE 6450-01-P